DEPARTMENT OF ENERGY

Federal Energy Regulatory Commission

Combined Notice of Filings #1

Take notice that the Commission received the following electric rate filings:

Docket Numbers: ER11-4540-000.

Applicants: ISO New England Inc., New England Power Pool Participants Committee.

Description: Notice of Effective Date of Auto Mitigation and Related Changes—ER11-4540-000 to be effective N/A.

Filed Date: 4/3/12.

Accession Number: 20120403-5164.

Comments Due: 5 p.m. ET 4/24/12.

Docket Numbers: ER12-659-001.

Applicants: Baconton Power LLC.

Description: Update to Triennial Review to be effective 12/22/2011.

Filed Date: 4/3/12.

Accession Number: 20120403-5105.

Comments Due: 5 p.m. ET 4/24/12.

Docket Numbers: ER12-1242-000.

Applicants: ISO New England Inc., New England Power Pool Participants Committee.

Description: Notice of Effective Date of Auto Mitigation and Related Changes—ER12-1242-000 to be effective N/A.

Filed Date: 4/3/12.

Accession Number: 20120403-5167.

Comments Due: 5 p.m. ET 4/24/12.

Docket Numbers: ER12-1250-001.

Applicants: PSEG New Haven LLC.

Description: PSEG New Haven LLC Market Based Rate Tariff to be effective 4/6/2012.

Filed Date: 4/3/12.

Accession Number: 20120403-5186.

Comments Due: 5 p.m. ET 4/24/12.

Docket Numbers: ER12-1408-000.

Applicants: Consolidated Edison Company of New York, Inc.

Description: Supplement to WDS Filing 4-2012 to be effective N/A.

Filed Date: 4/3/12.

Accession Number: 20120403-5086.

Comments Due: 5 p.m. ET 4/24/12.

Docket Numbers: ER12-1413-000.

Applicants: PSEG New Haven LLC.

Description: PSEG New Haven LLC Market Based Rate Tariff to be effective N/A.

Filed Date: 4/3/12.

Accession Number: 20120403-5159.

Comments Due: 5 p.m. ET 4/24/12.

Docket Numbers: ER12-1430-000.

Applicants: PJM Interconnection, L.L.C.

Description: Revisions to the PJM Tariff & OA re Demand Response in Regulation Markets to be effective 6/1/2012.

Filed Date: 4/3/12.

Accession Number: 20120403-5000.

Comments Due: 5 p.m. ET 4/24/12.

Docket Numbers: ER12-1431-000.

Applicants: ReEnergy Ashland LLC.

Description: ReEnergy Ashland Notice of Succession and MBR Tariff Revisions to be effective 1/18/2012.

Filed Date: 4/3/12.

Accession Number: 20120403-5056.

Comments Due: 5 p.m. ET 4/24/12.

Docket Numbers: ER12-1432-000.

Applicants: ReEnergy Livermore Falls LLC.

Description: ReEnergy Livermore Falls Notice of Succession and MBR Tariff Revisions to be effective 1/18/2012.

Filed Date: 4/3/12.

Accession Number: 20120403-5076.

Comments Due: 5 p.m. ET 4/24/12.

Docket Numbers: ER12-1433-000.

Applicants: Fowler Ridge Wind Farm LLC.

Description: Compliance Filing—Certificate of Concurrence for CFA 2012 to be effective N/A.

Filed Date: 4/3/12.

Accession Number: 20120403-5079.

Comments Due: 5 p.m. ET 4/24/12.

Docket Numbers: ER12-1434-000.

Applicants: ReEnergy Fort Fairfield LLC.

Description: ReEnergy Fort Fairfield Notice of Succession and MBR Tariff Revisions to be effective 1/18/2012.

Filed Date: 4/3/12.

Accession Number: 20120403-5097.

Comments Due: 5 p.m. ET 4/24/12.

Docket Numbers: ER12-1435-000.

Applicants: ReEnergy Stratton LLC.

Description: ReEnergy Stratton Notice of Succession and MBR Tariff Revisions to be effective 1/18/2012.

Filed Date: 4/3/12.

Accession Number: 20120403-5104.

Comments Due: 5 p.m. ET 4/24/12.

Docket Numbers: ER12-1436-000.

Applicants: Eagle Point Power Generation LLC.

Description: Eagle Point MBR Tariff to be effective 4/2/2012.

Filed Date: 4/3/12.

Accession Number: 20120403-5107.

Comments Due: 5 p.m. ET 4/24/12.

Docket Numbers: ER12-1437-000.

Applicants: Eagle Point Power Generation LLC.

Description: Eagle Point Reactive Tariff to be effective 4/2/2012.

Filed Date: 4/3/12.

Accession Number: 20120403-5108.

Comments Due: 5 p.m. ET 4/24/12.

Docket Numbers: ER12-1438-000.

Applicants: Alabama Power Company.

Description: Revised OATT Attachment M Formula Rate Manual Filing to be effective 1/1/2011.

Filed Date: 4/3/12.

Accession Number: 20120403-5188.

Comments Due: 5 p.m. ET 4/24/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2012.
Nathaniel J. Davis, Sr.,
Deputy Secretary.

[FR Doc. 2012-8689 Filed 4-10-12; 8:45 am]

BILLING CODE 6717-01-P